INTERNATIONAL TRADE COMMISSION

[Investigation No. 731-TA-539-C (Fifth Review)]

Uranium From Russia

Determination

On the basis of the record ¹ developed in the subject five-year review, the United States International Trade Commission (“Commission”) determines, pursuant to the Tariff Act of 1930 (“the Act”), that termination of the suspended investigation on uranium from Russia would be likely to lead to continuation or recurrence of material injury to an industry in the United States within a reasonably foreseeable time.

¹ The record is defined in § 207.2(f) of the Commission's Rules of Practice and Procedure (19 CFR 207.2(f)).

Background

The Commission instituted this review on September 1, 2022 (87 FR 53774) and determined on December 5, 2022 that it would conduct an expedited review (88 FR 11476, February 23, 2023).

The Commission made this determination pursuant to section 751(c) of the Act (19 U.S.C. 1675(c)). It completed and filed its determination in this review on March 31, 2023. The views of the Commission are contained in USITC Publication 5416 (March 2023), entitled Uranium from Russia: Investigation No. 731-TA-539-C (Fifth Review).

By order of the Commission.
Issued: March 31, 2023.
Lisa Barton,
Secretary to the Commission.

[FR Doc. 2023-07166 Filed 4-5-23; 8:45 am]

BILLING CODE 7020-02-P